Executive Order 14369 of December 18, 2025

Ensuring American Space Superiority

By the authority vested in me as President by the Constitution and the laws of the United States of America, it is hereby ordered:

Section 1. Purpose. Superiority in space is a measure of national vision and willpower, and the technologies Americans develop to achieve it contribute substantially to the Nation's strength, security, and prosperity. The United States must therefore pursue a space policy that will extend the reach of human discovery, secure the Nation's vital economic and security interests, unleash commercial development, and lay the foundation for a new space age.

Sec. 2. Policy. My Administration will focus its space policy on achieving the following priorities:

(a) Leading the world in space exploration and expanding human reach and American presence in space by:

(i) returning Americans to the Moon by 2028 through the Artemis Program, to assert American leadership in space, lay the foundations for lunar economic development, prepare for the journey to Mars, and inspire the next generation of American explorers;

(ii) establishing initial elements of a permanent lunar outpost by 2030 to ensure a sustained American presence in space and enable the next steps in Mars exploration; and

(iii) enhancing sustainability and cost-effectiveness of launch and exploration architectures, including enabling commercial launch services and prioritizing lunar exploration;

(b) Securing and defending American vital national and economic security interests in, from, and to space by:

(i) developing and demonstrating prototype next-generation missile defense technologies by 2028 to progressively and materially enhance America's air and missile defenses pursuant to Executive Order 14186 of January 27, 2025 (The Iron Dome for America);

(ii) ensuring the ability to detect, characterize, and counter threats to United States space interests from very low-Earth orbit and through cislunar space, including any placement of nuclear weapons in space;

(iii) creating a responsive and adaptive national security space architecture by accelerating acquisition reform, integrating commercial space capabilities, and enabling new market entrants; and

(iv) strengthening ally and partner contributions to United States and collective space security, including through increased space security spending, operational cooperation, basing agreements, and ally and partner investments in America's space industrial base;

(c) Growing a vibrant commercial space economy through the power of American free enterprise by:

(i) fostering economic growth, attracting at least $50 billion of additional investment in American space markets by 2028, and increasing launch and reentry cadence through new and upgraded facilities, improved efficiency, and policy reforms;

(ii) demonstrating spectrum leadership across space applications to promote United States technology competitiveness, spectrum management efficiency, and global market access; and

(iii) spurring private sector initiative and a commercial pathway to replace the International Space Station by 2030; and

(d) Developing and deploying advanced capabilities and approaches to enable the next century of space achievements by:

(i) optimizing space research-and-development investments to achieve my Administration's near-term space objectives, use emerging technologies and scientific discoveries to advance mission capabilities, and enable scientific discovery for America's long-term science and technology leadership;

(ii) enabling near-term utilization of space nuclear power by deploying nuclear reactors on the Moon and in orbit, including a lunar surface reactor ready for launch by 2030;

(iii) improving high-value space and Earth weather forecasting and operations to meet needs on Earth and beyond, utilizing improved business approaches such as firm fixed-price contracts and as-a-service models for both space and ground-based segments;

(iv) enabling the sustainability of space operations through effective and responsible approaches to space traffic management; orbital debris mitigation and remediation; and terrestrial and cislunar positioning, navigation, and timing, including by establishing the United States as the standards and services leader in these areas; and

(v) establishing ground, space, and lunar infrastructure and standards that enable implementation of space priorities and a robust space industrial base.

Sec. 3. Implementation. (a) The Assistant to the President for Science and Technology (APST) shall coordinate the overall implementation of this order, including:

(i) within 60 days of the date of this order, issuing guidance on establishing a National Initiative for American Space Nuclear Power to achieve the nuclear power policy priorities directed in this order, in coordination with the heads of relevant executive departments and agencies (agencies) identified by the APST; and

(ii) within 120 days of the date of this order, propose revisions to Presidential Policy Directive 26 of November 21, 2013 (National Space Transportation Policy), to support implementation of this order.

(b) Within 90 days of the date of this order, the APST shall coordinate development of and integrate into one submission to the President the following:

(i) a plan from the Administrator of the National Aeronautics and Space Administration (NASA), in coordination with the Director of the Office of Management and Budget (OMB) and the Assistant to the President for Domestic Policy (APDP), for achieving the policy objectives in this order regarding leading the world in space exploration and expanding human reach and American presence in space, including plans for mitigating any technology, supply chain, or industrial capacity gaps relevant to achieving those goals within available funding;

(ii) the results of comprehensive reviews by the Secretary of Commerce and the Administrator of NASA, in consultation with the Director of OMB, of their respective major space acquisition programs to identify any such programs that are more than 30 percent behind schedule based on the program's acquisition baseline, 30 percent over cost based on the program's baseline, unable to meet any key performance parameters, or unaligned with the priorities in this order, along with a description of their planned mitigation or remediation efforts; and

(iii) a report from the Secretary of War, in coordination with the Director of National Intelligence (DNI) and the Assistant to the President for National Security Affairs (APNSA), of any technology, supply chain, or industrial capacity gaps relevant to this order's directive to progressively and materially enhance America's air and missile defenses, and plans for mitigating such gaps within available funding.

(c) Within 180 days of the date of this order, the Secretary of Commerce and the Administrator of NASA shall each reform their respective agency's space acquisition processes to support the space priorities in this order, and to further Executive Order 14271 of April 15, 2025 (Ensuring Commercial, Cost-Effective Solutions in Federal Contracts). These reforms shall incorporate the following:

(i) use of existing authorities to improve efficiency and expedite space acquisitions, including a first preference for commercial solutions and a general preference for Other Transactions Authority or Space Act Agreements, customary commercial terms, or any other pathways to promote effective or streamlined acquisitions;

(ii) a detailed review of each functional support role within the agency's Federal and contract workforce, to eliminate unnecessary tasks, reduce duplication, and accelerate decision-making;

(iii) for the Department of Commerce, strengthening capabilities for conducting space acquisition and sustainment activities in a manner that supports collaboration with, but does not require acquisition assistance from, NASA, including by recommending legislative reforms as necessary; and

(iv) for NASA, aligning space-focused acquisition and procurement processes across NASA centers and activities to improve efficiency.

(d) Within 180 days of the date of this order, the APNSA shall, in coordination with the Secretary of War, the DNI, the APST, and the heads of other relevant agencies:

(i) implement a space security strategy that accounts for United States interests in, from, and to space; addresses current and projected threats to United States space interests from very low-Earth orbit through cislunar space; and incorporates a technology plan for detecting, characterizing, and countering potential adversary placement of nuclear weapons in space; and

(ii) implement a plan for a responsive and adaptive national security space architecture to support the space security strategy and other relevant priorities established in this order.

(e) Within 180 days of the date of this order, the Secretary of State, in coordination with the Secretary of War and the DNI, shall implement a plan to strengthen ally and partner contributions to United States and collective space security.

(f) Within 120 days of the date of this order, the Secretary of Commerce shall coordinate with the APST, the Assistant to the President for Economic Policy, the APDP, and the heads of relevant agencies to assert spectrum leadership, which shall include considering opportunities for reapportioning and sharing spectrum, as appropriate.

(g) Within 120 days of the date of this order, the Administrator of NASA, in coordination with the Secretary of State and the APST, shall ensure that international civil space cooperation arrangements involving NASA support the policy priorities in this order, including by initiating new arrangements and modifying or terminating existing arrangements where appropriate and consistent with existing authorities and legal obligations.

Sec. 4. Rescission. (a) This order supersedes Executive Order 14056 of December 1, 2021 (The National Space Council), which is hereby revoked.

(b) Space Policy Directive 3 of June 18, 2018 (National Space Traffic Management Policy), is hereby revised as follows:

(i) by replacing “free of direct user fees” with “for commercial and other relevant use” in subsections 3(b) and 4(d); and

(ii) by replacing “provided free of direct user fees” with “available for commercial and other relevant use” in subsections 5(a)(ii) and 5(b)(ii).

(c) To the extent this order is inconsistent with any provision of any previous Executive Order, Presidential Memorandum, or Presidential Directive, this order shall control.

Sec. 5. Definitions. (a) The term “commercial solutions” means any of the methods for procurement of a commercial product or service described in part 12 of the Federal Acquisition Regulation, or other industry solutions funded by private investment that meet agency needs.

(b) The term “Other Transactions Authority” means the ability of the United States Government to enter into contracts other than standard contracts, grants, or cooperative agreements.

Sec. 6. General Provisions. (a) Nothing in this order shall be construed to impair or otherwise affect:

(i) the authority granted by law to an executive department or agency, or the head thereof; or

(ii) the functions of the Director of OMB relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the National Aeronautics and Space Administration.

THE WHITE HOUSE,

December 18, 2025.

[FR Doc. 2025-23845

Filed 12-22-25; 11:15 am]

Billing code 7510-13-P